DEPARTMENT OF HEALTH AND HUMAN SERVICES

Centers for Disease Control and Prevention

Lead Exposure and Prevention Advisory Committee

AGENCY: Centers for Disease Control and Prevention (CDC), Department of Health and Human Services (HHS).

ACTION: Notice of meeting.

SUMMARY: In accordance with the Federal Advisory Committee Act, the CDC announces the following meeting for the Lead Exposure and Prevention Advisory Committee (LEPAC). This is a hybrid meeting which will occur in person and online and is open to the public. Advance registration by September 29, 2023, is needed to receive the information to attend the meeting. The registration link is provided in the addresses section below.

DATES: The meeting will be held on October 16, 2023, from 9 a.m. to 4:30 p.m., EDT and October 17, 2023, from 9 a.m. to 1 p.m., EDT.

ADDRESSES: Register in advance at https://forms.office.com/pages/responsepage.aspx?id=eCgFR53Gc0uxesXQDXVJuPeyypfKOR5Gj2Gz6aPXBGpUREZISTBGVjczTFlLRU5NUjY0SFNaQTM0UC4u&web=1&wdLOR=c61C32E80-28BF-40D7-AC2D-E113AEFDAA23 to receive information to attend the meeting.

FOR FURTHER INFORMATION CONTACT: Paul Allwood, Ph.D., M.P.H., Designated Federal Officer, National Center for Environmental Health, Centers for Disease Control and Prevention, 4770 Buford Highway, Atlanta, Georgia 30341, Telephone: 770-488-6774; Email: LEPAC@cdc.gov.

SUPPLEMENTARY INFORMATION:

Background: The Lead Exposure and Prevention Advisory Committee was established under Section 2203 of Public Law 114-322, the Water Infrastructure Improvements for the Nation Act; 42 U.S.C. 300j-21, Registry for Lead Exposure and Prevention Advisory Committee.

Purpose: The LEPAC is charged with providing advice and guidance to the Secretary, Department of Health and Human Services (HHS), and the Director, CDC and Administrator, ATSDR, on (1) reviewing Federal programs and services available to individual communities exposed to lead; (2) reviewing current research on lead exposure to identify additional research needs; (3) reviewing and identifying best practices, or the need for best practices regarding lead screening and the prevention of lead poisoning; (4) identifying effective services, including services relating to healthcare, education, and nutrition for individuals and communities affected by lead exposure and lead poisoning, including in consultation with, as appropriate, the lead exposure registry as established in section 2203(b) of Public Law 114-322; and (5) undertaking any other review or activities that the Secretary determines to be appropriate.

Matters To Be Considered: The agenda will include presentations on the following topics: aligning HUD inspection protocols for assisted housing for the last 20 years, the environmental factors impacting lead reduction, EPA's proposal on lead dust clearance level and hazard standard, updates on blood lead testing instrument, lead related funding opportunities for community-based organizations, state policy actions related to the blood lead reference value, CDC's efforts to increase blood lead testing in children enrolled in Medicaid, and an update from the Preventing Lead Exposure in Adults workgroup. Agenda items are subject to change as priorities dictate.

Public Participation

Oral Public Comment: The public comment period is scheduled on October 16, 2023, from 1:30 p.m. until 2 p.m., and October 17, 2023, from 9:15 a.m. until 9:45 a.m. EDT. Individuals wishing to make a comment during the public comment period, please email your name, organization, and phone number by October 1, 2023, to LEPAC@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-19134 Filed 9-5-23; 8:45 am]

BILLING CODE 4163-18-P